DEPARTMENT OF THE TREASURY

Customs Service

Extension of and Changes to the General Program Test Regarding Post Entry Amendment Processing

AGENCY: Customs Service, Treasury.

ACTION: General notice.

SUMMARY: This document announces that the general program test regarding post entry amendment processing is being extended for a one year period. The document also announces minor modifications to the test: a database enhancement that permits participants to use any Microsoft Word software to interface with Customs database and a change of the location to where quarterly reports should be mailed. Also, the document announces that the database program name has changed to “Post Summary Adjustment.” Except for these changes, the test will continue to operate in accordance with the notice published in the Federal Register on November 28, 2000.

DATES: The test allowing post entry amendment to entry summaries is extended to December 31, 2003.

FOR FURTHER INFORMATION CONTACT: Debbie Scott (202/927-1962) or Don Yando (Chief; 202/927-1082), Entry and Drawback Management Branch, Office of Field Operations.

SUPPLEMENTARY INFORMATION:

Background

Customs announced and explained the post entry amendment processing test in a general notice document published in the Federal Register (65 FR 70872) on November 28, 2000. That notice announced that the test would commence no earlier than December 28, 2000, and run for approximately one year. On January 7, 2002, Customs published a general notice in the Federal Register (67 FR 768) extending the test for a one year period to December 31, 2002.

The test allows importers to amend entry summaries (not informal entries) prior to liquidation by filing with Customs either an individual amendment letter upon discovery of an error or a quarterly tracking report covering any errors that occurred during the quarter. The November 28, 2000, general notice explained how to file post entry amendments for revenue related errors and non-revenue related errors and the consequences of misconduct by importers during the test. It also provided that there are no application procedures or eligibility requirements.

This document announces that the test is being extended to December 31, 2003. To participate in the test, an importer need only follow the procedure for making a post entry amendment set forth in the November 28, 2000, general notice.

In addition, based on comments received in response to the November 28, 2000, general notice and Customs evaluation of the program, Customs is making two changes to the test. The first pertains to the kind of software that is required to participate in the test. Up to now, a test participant needed Microsoft Word 97 or 98 to interface with the program database. Now, due to an enhancement of the database, a participant may use any Microsoft Word software to interface with the database.

The second change pertains to the mailing of quarterly reports to Customs. Up to now, quarterly reports were mailed to Customs Headquarters. Now, these reports must be mailed to the port director of the port of entry handling the entry summaries involved.

Both of these changes are effective upon publication of this document in the Federal Register.

Finally, Customs notes that the name for the test under the database has been changed from “Post Entry Amendment” to “Post Summary Adjustment.” The test program itself will continue to be known as the “Post Entry Amendment” (or PEA) test program. Customs also notes that the test may be further extended if warranted. Additional information on the post entry amendment procedure can be found under “Importing and Exporting” at http://www.customs.gov.

Dated: February 12, 2003
Jayson P. Ahern,
Assistant Commissioner; Office of Field Operations.

[FR Doc. 03-4078 Filed 2-19-03; 8:45 am]

BILLING CODE 4820-02-P